DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

Gerardo L. Paez, PhD, University of Pennsylvania: Based on the reports of an inquiry and an investigation conducted by the University of Pennsylvania (UP) and analysis conducted by the ORI Division of Investigative Oversight (DIO), ORI found that Gerardo L. Paez, PhD, former postdoctoral fellow, Section of Medical Genetics, UP School of Veterinary Medicine, engaged in research misconduct in research supported by National Eye Institute (NEI), National Institutes of Health (NIH), awards R01 EY06855 and R01 EY13132.

ORI found that the Respondent engaged in research misconduct by falsifying and fabricating retinal gene profile data that he purportedly obtained from three-week old normal dogs and dogs with X-linked progressive retinal atrophy.

Specifically, ORI found that:

1. Respondent committed research misconduct by falsifying/fabricating data for gene expression profiles in retinal tissue from three-week old normal dogs and dogs with X-linked progressive retinal atrophy in abstracts and poster presentations for the 2006 ¹ and 2007 ² Association for Research in Vision and Ophthalmology (ARVO) meetings and in an unsubmitted manuscript draft.³

¹ Paez, G.L., Zangerl, B., Acland, G.M., & Aguirre, G.D. “Abnormal gene expression profile in retinas with RPGR frameshift mutation.”

² Paez, G.L., Zangerl, B., Acland, G.M., & Aguirre, G.D. “Photoreceptor degeneration and tumor suppressor gene expression in canine retinas with RGR frameshift mutation.”

³ Paez, G.L., Zangerl, B., Acland, G.M., & Aguirre, G.D. “Age-related changes in the transcriptional profile of normal and XLPRAII retinas using a custom cDNA microarray.”

2. Respondent falsely labeled data files in the UP bioinformatics core computer and submitted falsely identified files to his research mentors.

Dr. Paez has entered into a Voluntary Settlement Agreement in which he has voluntarily agreed, for a period of three (3) years, beginning on June 9, 2010:

(1) To exclude himself from serving in any advisory capacity to PHS, including but not limited to service on any PHS advisory committee, board, and/or peer review committee, or as a consultant;

(2) that any institution that submits an application for PHS support for a research project on which the Respondent's participation is proposed or that uses him in any capacity on PHS-supported research, or that submits a report of PHS-funded research in which he is involved, must concurrently submit a plan for supervision of his duties to the funding agency for approval; the supervisory plan must be designed to ensure the scientific integrity of his research contribution. A copy of the supervisory plan also must be submitted to ORI by the institution. Respondent agreed that he will not participate in any PHS-supported research until such a supervisory plan is submitted to ORI.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2010-16824 Filed 7-8-10; 8:45 am]

BILLING CODE 4150-31-P